DEPARTMENT OF TRANSPORTATION

Federal Aviation Administration

14 CFR Part 71

[Docket No. FAA-2008-0881; Airspace Docket No. 08-AAL-23]

Revision of and Revocation to Compulsory Reporting Points; Alaska

AGENCY: Federal Aviation Administration (FAA), DOT.

ACTION: Final rule.

SUMMARY: This action revises the published description of three low altitude Alaskan compulsory reporting points, two high altitude reporting points, and revokes one high and low altitude reporting point in the vicinity of Bethel and Ketchikan. Specifically, the FAA is revising the description of CRACK, GARRS and MOCHA to address recent technical adjustments to their actual locations. Additionally, the FAA has determined that the FLUKE reporting point is no longer needed in the National Airspace System (NAS).

DATES: Effective Date: 0901 UTC, November 20, 2008. The Director of the Federal Register approves this incorporation by reference action under 1 CFR part 51, subject to the annual revision of FAA Order 7400.9 and publication of conforming amendments.

FOR FURTHER INFORMATION CONTACT: Ken McElroy, Airspace and Rules, Office of System Operations Airspace and AIM, Federal Aviation Administration, 800 Independence Avenue, SW., Washington, DC 20591; telephone: (202) 267-8783.

SUPPLEMENTARY INFORMATION:

History

The National Flight Data Center has identified these three compulsory reporting points requiring their published description be revised to align with their actual locations. No changes to routing or procedures are taking place. One point, FLUKE is no longer needed for air traffic control and is being revoked. Accordingly, since this is an administrative change and does not involve a change in the dimension or operating procedures of this airspace, notice and public procedure under 5 U.S.C. 553(b) are unnecessary; a Notice of Proposed Rulemaking is not required for this action.

Alaskan Low Altitude Reporting Points are listed in paragraph 7004 of FAA Order 7400.9R signed August 15, 2007, and effective September 15, 2007, which is incorporated by reference in 14 CFR 71.1. Alaskan High Altitude Reporting Points are listed in paragraph 7005 of FAA Order 7400.9R signed August 15, 2007, and effective September 15, 2007, which is incorporated by reference in 14 CFR 71.1. The Reporting Points listed in this document will be revised subsequently in the Order.

The Rule

This action amends Title 14 Code of Federal Regulations (14 CFR) part 71 by revising the Low Altitude Reporting Points; CRACK, GARRS, and MOCHA; and the High Altitude Reporting Points; GARRS, and MOCHA to match the published description with their actual locations. The high and low altitude reporting point FLUKE is being revoked.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in Subtitle VII, Part A, Subpart I, section 40103. Under that section, the FAA is charged with prescribing regulations to assign the use of the airspace necessary to ensure the safety of aircraft and the efficient use of airspace. This regulation is within the scope of that authority as it amends Low and High Altitude Compulsory Reporting Points in Alaska.

Environmental Review

The FAA has determined that this action qualifies for categorical exclusion under the National Environmental Policy Act in accordance with FAA Order 1050.1E, Environmental Impacts: Policies and Procedures. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9R, Airspace Designations and Reporting Points, signed August 15, 2007, and effective September 15, 2007, is amended as follows:

Paragraph 7004 Alaskan Low Altitude Reporting Points.

* * * * *

CRACK: [Amended]

Lat. 57°20′48″ N., long. 159°24′19″ W. (INT King Salmon, AK, LOM 226°, Port Heiden, AK, NDB 314° bearings).

GARRS: [Amended]

Lat. 58°19′06″ N., long. 161°20′32″ W. (INT King Salmon, AK, LOM 262°, Cape Newenham, AK, NDB 131° bearings).

MOCHA: [Amended]

Lat. 54°30′24″ N., long. 133°01′15″ W. (INT Nichols, AK, NDB 236°, Sandspit, BC, Canada, NDB 331° bearings).

FLUKE: [Revoked]

* * * * *

Paragraph 7005 Alaskan High Altitude Reporting Points.

* * * * *

GARRS: [Amended]

Lat. 58°19′06″ N., long. 161°20′32″ W. (INT King Salmon, AK, LOM 262°, Cape Newenham, AK, NDB 131° bearings).

MOCHA: [Amended]

Lat. 54°30′24″ N., long. 133°01′15″ W. (INT Annette Island, AK, 237°, Sandspit, BC, Canada, 331° radials).

FLUKE: [Revoked]

* * * * *

Issued in Washington, DC, on September 12, 2008.
Edith V. Parish,
Manager, Airspace & Rules Group.

[FR Doc. E8-22648 Filed 9-26-08; 8:45 am]

BILLING CODE 4910-13-P